DEPARTMENT OF THE INTERIOR

Fish and Wildlife Service

[FWS-HQ-ES-2019-N048; FXES11130100000C4-190-FF02ENEH00]

Endangered and Threatened Wildlife and Plants; 21 Draft Recovery Plan Revisions for 43 Southeastern Species

AGENCY: Fish and Wildlife Service, Interior.

ACTION: Notice of availability; opening of public comment period.

SUMMARY: We, the U.S. Fish and Wildlife Service (Service), announce the availability for public review and comment of 21 draft recovery plan revisions, which update recovery criteria for 43 endangered or threatened species located in Alabama, Arkansas, Florida, Georgia, Illinois, Indiana, Kentucky, Louisiana, Missouri, Mississippi, and Tennessee, the Commonwealth of Puerto Rico, and the U.S. and British Virgin Islands. We are updating recovery criteria to better assist in determining when an endangered species has recovered to the point that it may be reclassified as threatened, or that the protections afforded by the Endangered Species Act (ESA) are no longer necessary and the species may be removed from the ESA's protections. We request review of these draft recovery plan revisions and invite comments from local, State, Tribal, and Federal agencies, nongovernmental organizations, and the public.

DATES: We must receive comments on the draft recovery plan revisions on or before September 5, 2019.

ADDRESSES: Reviewing documents: If you wish to review the draft recovery plan revisions, you may obtain copies from the website addresses in the table in SUPPLEMENTARY INFORMATION. You may also request copies of the draft recovery plan revisions by contacting the individuals listed in the table.

Submitting comments: If you wish to comment, see the table in SUPPLEMENTARY INFORMATION and submit your comments by one of the following methods:

1. U.S. Mail or hand-delivery: You may submit written comments and materials to the appropriate field office mailing address for the species in which you are interested;

2. Email: You may send comments by email to the identified contact person's email address in the table, for each species. Please include “Draft Recovery Plan Revision Comments” in the subject line.

FOR FURTHER INFORMATION CONTACT: For information on a particular species, contact the appropriate person listed in the table for that species in SUPPLEMENTARY INFORMATION. Individuals who are hearing impaired may call the Federal Relay Service at 800-877-8339 for TTY assistance.

SUPPLEMENTARY INFORMATION:

Background

In this notice, we announce for public review and comment the availability of 21 draft recovery plan revisions, which update recovery criteria for 43 endangered or threatened species located in Alabama, Arkansas, Florida, Georgia, Illinois, Indiana, Kentucky, Louisiana, Missouri, Mississippi, and Tennessee, the Commonwealth of Puerto Rico, and the U.S. and British Virgin Islands. This group of 21 draft recovery plan revisions is part of a larger effort underway to revise up to 182 recovery plans covering up to 305 species in order to achieve the following Department of the Interior Agency Priority Performance Goal outlined in the Department's Strategic Plan for Fiscal Years 2018-2022: “By September 30, 2019, 100 percent of all Fish and Wildlife Service recovery plans will have quantitative criteria for what constitutes a recovered species.”

The purpose of a recovery plan is to provide a feasible and effective roadmap for a species' recovery, with the goal of improving its status and managing its threats to the point at which protections under the Endangered Species Act (ESA; 16 U.S.C. 1531 et seq.) are no longer needed. Recovery plans must be designed so that all stakeholders and the public understand the rationale behind the recovery program, whether they were involved in writing the plan or not, and recognize their role in its implementation. We are requesting submission of any information that enhances the necessary understanding of the (1) species' biology and threats and (2) recovery needs and related implementation issues or concerns, to ensure that we have assembled, considered, and incorporated the best available scientific and commercial information into the draft recovery plan revisions for these 43 species.

Recovery plans provide important guidance to the Service, States, other partners, and the general public on methods of minimizing threats to listed species and objectives against which to measure the progress towards recovery; they are guidance and not regulatory documents. A recovery plan identifies, organizes, and prioritizes recovery actions and is an important guide that ensures sound scientific decision-making throughout the recovery process, which can take decades. Keeping recovery plans current ensures that threatened species and endangered species benefit through timely partner-coordinated implementation, based on the best available information.

A review of a recovery plan and its implementation may show that the plan is out of date or its usefulness is limited and that the plan warrants modification. The need for, and extent of, recovery plan modifications will vary considerably among recovery plans, depending on the scope and complexity of the initial plan, the structure of the document, and the involvement of stakeholders. Recovery plan modifications can range from relatively minor updates to a substantial rewrite that revises the existing plan in part (i.e., an amendment to one of the sections that modifies the existing plan), or in full (i.e., a full revision that completely replaces the existing plan). The need for a recovery plan revision may be triggered when, among other possibilities, (1) new information has been identified, such as population-level threats to the species or previously unknown life-history traits, which necessitates new or revised recovery strategy, actions, or criteria, or revision of all three in order to maintain the adequacy of the plan; and (2) the current plan is not achieving its objectives. Revisions benefit endangered and threatened species, our partners, and the public by incorporating the best available information on what is needed for species' recovery.

Revision of recovery plans requires public notice and comment under section 4(f)(4) of the ESA, including (1) a Federal Register notice of availability to give opportunity for public review and comment, (2) consideration of all information presented during the public comment period, and (3) approval by the Regional Director. When finalized, these recovery plan revisions will be made publicly available on the internet through our Environmental Conservation Online System (ECOS, https://ecos.fws.gov).

What plans are being made available for public review and comment?

This notice announces our draft recovery plan revisions for the species listed in the table below.

Common name | Scientific name | Listing status ¹ | Current range | Recovery plan name | Internet availability of proposed recovery plan revision | Contact person, phone, email | Contact person's U.S. mail address
Morefield's leather flower | Clematis morefieldii | E | AL, TN | Morefield's Leather Flower Clematis morefieldii Recovery Plan ² | https://ecos.fws.gov/docs/recovery_plan/Morefields%20Leather%20Flower%20Recovery%20Plan%20Amendment.pdf | Stephen Ricks, 601-321-1122, stephen_ricks@fws.gov | Mississippi Ecological Services Field Office, 6578 Dogwood View Pkwy, Suite A, Jackson, MS 39213.
Southern combshell | Epioblasma penita | E | AL, MS | Five Tombigbee River Mussels Recovery Plan ² | https://ecos.fws.gov/docs/recovery_plan/Southern%20Combshell%20and%20Black%20Clubshell%20Recovery%20Plan%20Amendment.pdf
Black clubshell | Pleurobema curtum | E | AL, MS
Fat pocketbook | Potamilus capax | E | AR, IL, IN, KY, LA, MO, MS, TN | A Recovery Plan for the Fat Pocketbook Pearly Mussel Potamilus capax ² | https://ecos.fws.gov/docs/recovery_plan/Fat%20Pocketbook%20Mussel%20Recovery%20Plan%20Amendment.pdf
Alabama redbellied turtle | Pseudemys alabamensis | E | AL, MS | Draft Revised Recovery Plan for the Alabama Red-Bellied Turtle (Pseudemys alabamensis) ³ | https://ecos.fws.gov/docs/recovery_plan/Alabama%20Red%20Bellied%20Turtle%20Draft%20Revised%20Recovery%20Plan.pdf
Dusky gopher frog | Rana sevosa | E | AL, MS | Dusky Gopher Frog (Rana sevosa) Recovery Plan ² | https://ecos.fws.gov/docs/recovery_plan/Dusky%20Gopher%20Frog%20Recovery%20Plan%20Amendment.pdf
Alabama canebrake pitcher-plant | Sarracenia rubra ssp. alabamensis | E | AL | Alabama Canebrake Pitcher Plant (Sarracenia rubra ssp. alabamensis) Recovery Plan ² | https://ecos.fws.gov/docs/recovery_plan/Alabama%20Canebrake%20Pitcher%20Plant%20Recovery%20Plan%20Amendment_1.pdf
Alabama cavefish | Speoplatyrhinus poulsoni | E | AL | Alabama Cavefish Speoplatyrhinus poulsoni Recovery Plan (Second Revision) ² | https://ecos.fws.gov/docs/recovery_plan/Alabama%20Cavefish%20Recovery%20Plan%20Amendment.pdf
Alabama beach mouse | Peromyscus polionotus ammobates | E | AL | Recovery Plan for the Alabama Beach Mouse (Peromyscus polionotus ammobates), Perdido Key Beach Mouse (P. p. trissyllepsis), and Choctawhatchee Beach Mouse (P. p. allophrys) ² | https://ecos.fws.gov/docs/recovery_plan/Alabama%20Beach%20Mouse%20Recovery%20Plan%20Amendment.pdf | William J. Pearson, 251-441-5870, bill_pearson@fws.gov | Alabama Ecological Services Field Office, U.S. Fish and Wildlife Service, 1208-B Main Street, Daphne, AL 36526.
Choctawhatchee beach mouse | Peromyscus polionotus allophrys | E | FL |  | https://ecos.fws.gov/docs/recovery_plan/Choctawhatchee%20Beach%20Mouse%20%20Recovery%20Plan%20Amendment.pdf | Catherine T. Phillips, Ph.D., 850-769-0552, catherine_phillips@fws.gov | Panama City Field Office, 1601 Balboa Avenue, Panama City, FL 32405.
Perdido Key beach mouse | Peromyscus polionotus trissyllepsis | E | AL, FL |  | https://ecos.fws.gov/docs/recovery_plan/Perdido%20Key%20Beach%20Mouse%20Recovery%20Plan%20Amendment.pdf
Apalachicola rosemary | Conradina glabra | E | FL | Recovery Plan for Apalachicola Rosemary (Conradina glabra) ² | https://ecos.fws.gov/docs/recovery_plan/Apalachicola%20Rosemary%20Recovery%20Plan%20Amendment.pdf
Ochlockonee moccasinshell | Medionidus simpsonianus | E | FL, GA | Recovery Plan for Endangered Fat Threeridge, Shinyrayed Pocketbook, Gulf Moccasinshell, Ochlockonee moccasinshell, Oval Pigtoe and Threatened Chipola Slabshell, and Purple bankclimber ² | https://ecos.fws.gov/docs/recovery_plan/Ochlockonee%20Moccasinshell%20Recovery%20Plan%20Amendment.pdf
Chapman rhododendron | Rhododendron chapmanii | E | FL | Recovery Plan for Chapman's Rhododendron, Rododendron chapmanii ² | https://ecos.fws.gov/docs/recovery_plan/Chapmans%20Rhododendron%20Recovery%20Plan%20Amendment.pdf
Gentian pinkroot | Spigelia gentianoides | E | AL, FL | Recovery Plan for Spigelia gentianoides (Gentian pinkroot) ² | https://ecos.fws.gov/docs/recovery_plan/Gentian%20Pinkroot%20Recovery%20Plan%20Amendment.pdf
Florida scrub-jay | Aphelocoma coerulescens | T | FL | Draft Revised Recovery Plan for the Florida Scrub-Jay (Aphelocoma coerulescens) ³ | https://ecos.fws.gov/docs/recovery_plan/Florida%20Scrub-Jay%20Draft%20Revised%20Recovery%20Plan.pdf | Jay B. Herrington, 904-731-3191, jay_herrington@fws.gov | Northeast Florida Ecological Services Field Office, 7915 Baymeadows Way, Suite 200, Jacksonville, FL 32256.
Four-petal pawpaw | Asimina tetramera | E | FL | South Florida Multi-Species Recovery Plan ² | https://ecos.fws.gov/docs/recovery_plan/Four%20Petal%20PawPaw%20Recovery%20Plan%20Amendment.pdf | Roxanna Hinzman, 772-469-4309, SouthFL_recoveryplancomments@fws.gov | South Florida Ecological Services Field Office, 1339 20th Street, Vero Beach, FL 32960.
Fragrant prickly-apple | Cereus eriophorus var. fragrans | E | FL |  | https://ecos.fws.gov/docs/recovery_plan/Fragrant%20Prickly%20Apple%20Recovery%20Plan%20Amendment.pdf
Florida perforate cladonia | Cladonia perforata | E | FL |  | https://ecos.fws.gov/docs/recovery_plan/Florida%20Perforate%20Cladonia%20Recovery%20Plan%20Amendment.pdf
Short-leaved rosemary | Conradina brevifolia | E | FL |  | https://ecos.fws.gov/docs/recovery_plan/Lake%20Wales%20Ridge%20Plants%20Recovery%20Plan%20Amendment.pdf
Avon Park harebells | Crotalaria avonensis | E | FL
Garrett's mint | Dicerandra christmanii | E | FL
Scrub mint | Dicerandra frutescens | E | FL
Snakeroot | Eryngium cuneifolium | E | FL
Highlands scrub hypericum | Hypericum cumulicola | E | FL
Scrub blazingstar | Liatris ohlingerae | E | FL
Lewton's polygala | Polygala lewtonii | E | FL
Wireweed | Polygonella basiramia | E | FL
Sandlace | Polygonella myriophylla | E | FL
Carter's mustard | Warea carteri | E | FL
Florida ziziphus | Ziziphus celata | E | FL
American crocodile [FL DPS] | Crocodylus acutus | T | FL |  | https://ecos.fws.gov/docs/recovery_plan/American%20Crocodile%20Recovery%20Plan%20Amendment.pdf
Okeechobee gourd | Cucurbita okeechobeensis ssp. okeechobeensis | E | FL |  | https://ecos.fws.gov/docs/recovery_plan/Okeechobee%20Gourd%20Recovery%20Plan%20Amendment.pdf
Snail kite | Rostrhamus sociabilis plumbeus | E | FL |  | https://ecos.fws.gov/docs/recovery_plan/Everglade%20Snail%20Kite%20Recovery%20Plan%20Amendment.pdf
Key tree-cactus | Pilosocereus robinii | E | FL |  | https://ecos.fws.gov/docs/recovery_plan/Key%20Tree%20Cactus%20Recovery%20Plan%20Amendment.pdf
Eastern indigo snake | Drymarchon corais couperi | T | AL, FL, GA | Draft Revised Recovery Plan for the Eastern Indigo Snake ³ | https://ecos.fws.gov/docs/recovery_plan/Eastern%20Indigo%20Snake%20Draft%20Revised%20Recovery%20Plan.pdf | Donald W. Imm, Ph.D., cell: 850-532-2046, office: 706-208-7501, fax: 706-613-6059, donald_imm@fws.gov | Georgia Ecological Services Field Office, 355 East Hancock Avenue, Room 320 Box 7, Athens, GA 30601.
Amber darter | Percina antesella | E | GA, TN | Draft Revised Recovery Plan for the Amber Darter (Percina antesella) ³ |  | https://ecos.fws.gov/docs/recovery_plan/Amber%20Darter%20Draft%20Revised%20Recovery%20Plan.pdf
Conasauga logperch | Percina jenkinsi | E | GA, TN | Draft Revised Recovery Plan for the Conasauga Logperch (Percina jenkinsi) ³ |  | https://ecos.fws.gov/docs/recovery_plan/Conasauga%20Logperch%20Draft%20Revised%20Recovery%20Plan.pdf
Louisiana pearlshell | Margaritifera hembeli | T | AR, LA | Draft Revised Recovery Plan for the Louisiana Pearlshell (Margaritifera hembeli) ³ | https://ecos.fws.gov/docs/recovery_plan/Louisiana%20Pearlshell%20Draft%20Revised%20Recovery%20Plan.pdf | Joseph Ranson, 337-291-3113, joseph_ranson@fws.gov | Louisiana Ecological Services Field Office, 200 Dulles Drive, Lafayette, LA 70506.
Puerto Rican sharp-shinned hawk | Accipiter striatus venator | E | Puerto Rico | Puerto Rican Broad-Winged Hawk and Puerto Rican Sharp-Shinned Hawk Recovery Plan ² | https://ecos.fws.gov/docs/recovery_plan/Puerto%20Rican%20Broad-Winged%20Hawk%20and%20Puerto%20Rican%20Sharp-Shinned%20Hawk%20Recovery%20Plan%20Amendment.pdf | Edwin E. Muñiz, 787-851-7297, edwin_muniz@fws.gov | Caribbean Ecological Services Field Office, P.O. Box 1600, Rio Grande, PR 00745.
Puerto Rican broad-winged hawk | Buteo platypterus brunnescens | E | Puerto Rico
Puerto Rican boa | Epicrates inornatus | E | Puerto Rico | Recovery Plan for the Puerto Rican Boa ² | https://ecos.fws.gov/docs/recovery_plan/Puerto%20Rican%20Boa%20Recovery%20Plan%20Amendment.pdf
Virgin Islands tree boa | Epicrates monensis granti | E | Puerto Rico, Virgin Islands | Recovery Plan for the Virgin Islands Tree Boa (Epicrates monensis granti) ² | https://ecos.fws.gov/docs/recovery_plan/Virgin%20Island%20Tree%20Boa%20Recovery%20Plan%20Amendment.pdf
¹ E = endangered; T = threatened.
² Denotes a partial revision (i.e., amendment) to the recovery plan.
³ Denotes a full revision of the recovery plan.

How do I ask questions or provide information?

For any species listed above, please submit your questions, comments, and materials to the appropriate contact in the table above. Individuals who are hearing impaired or speech impaired may call the Federal Relay Service at 800-877-8339 for TTY assistance.

Request for Public Comments

We request written comments on the draft recovery plan modifications. We will consider all comments we receive by the date specified in DATES prior to final approval of the plans.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533 (f)).

Dated: July 19, 2019.
Margaret E. Everson,
Principal Deputy Director, U.S. Fish and Wildlife Service, Exercising the Authority of the Director for the U.S. Fish and Wildlife Service.

[FR Doc. 2019-16750 Filed 8-5-19; 8:45 am]

BILLING CODE 4333-15-P